ENVIRONMENTAL PROTECTION AGENCY

[ER-FRL-6686-5]

Environmental Impacts Statements; Notice of Availability

Responsible Agency: Office of Federal Activities, General Information (202) 564-7167 or http://www.epa.gov/compliance/nepa/.

Weekly receipt of Environmental Impact Statements

Filed 04/23/2007 Through 04/27/2007

Pursuant to 40 CFR 1506.9.

EIS No. 20070164, Final EIS, AFS, MT, Northeast Yaak Project, Additional Documentation of Cumulative Effects Analysis, Proposed Harvest to Reduce Fuels in Old Growth, Implementation, Kootena National Forest, Three Rivers Ranger District, Lincoln County, MT, Wait Period Ends: 06/04/2007, Contact: Kathy Mohar 406-295-4693

EIS No. 20070165, Final Supplement, NRS, WV, Lost River Subwatershed of the Potomac River Watershed Project, Construction of Site 16 on Lower Cove Run and Deletion of Site 23 on Upper Cove Run, U.S. Army COE Section 404 Permit, Hardy County, WV, Wait Period Ends: 06/04/2007, Contact: Kevin Wickey 304-284-7540

EIS No. 20070166, Final EIS, AFS, ID, Newsome Creek Watershed Rehabilitation, Stream Restoration and Improvement and Decommissioning of Roads, Red River Ranger District, Nez Perce National Forest, Idaho County, ID, Wait Period Ends: 06/04/2007, Contact: Stephanie Bransford 208-983-0675

EIS No. 20070167, Final Supplement, AFS, IN, German Ridge Restoration Project, New Information on 2006 Land and Resource Management Plan and on the Inadequate Effects Analysis, Implementation, Hoosier National Forest, Tell City Ranger District, Perry County, IN, Wait Period Ends: 06/04/2007, Contact: Ron Ellis 812-276-4733

EIS No. 20070168, Draft EIS, FTA, CA, Alameda-Contra Transit (AC Transit) East Bay Bus Rapid Transit Project, Improve Transit Serve in cities of Berkeley, Oakland and San Leandro, San Francisco Bay Area, Alameda County, CA , Comment Period Ends: 06/18/2007, Contact: Lucinda Eagle 415-744-3133

EIS No. 20070169, Draft EIS, GSA, CO, Denver Federal Central Site Plan Study, Master Site Plan, Implementation, City of Lakewood, Jefferson County, CO, Comment Period Ends: 06/18/2007 Contact: Lisa Morpurgo 303-236-8000 Ext. 5039

EIS No. 20070170, Final EIS, NPS, FL, Castillo de San Marcos National Monument, General Management Plan, Implementation, City of St. Augustine, St. Johns County, FL, Wait Period Ends: 06/04/2007, Contact: David Libman 404-562-3124 Ext. 685

EIS No. 20070171, Draft EIS, FRC, AZ, Phoenix Expansion Project, Construction and Operation of Existing Natural Gas Transmission Pipeline, Right-of-Way Grant and Temporary Use Permit, San Juan and McKinley Counties, NM and Pinal and Maricopa Counties, AZ , Comment Period Ends: 06/18/2007, Contact: Andy Black 1-866-208-3372

EIS No. 20070172, Draft EIS, FRC, 00, Southeast Supply Header Project, Construction and Operation of Natural Gas Pipeline Facilities, Located in various Counties and Parishes in LA, MS and AL, Comment Period Ends: 06/18/2007, Contact: Andy Black 1-866-208-3372

EIS No. 20070173, Final EIS, COE, FL, Central and Southern Florida Project, New Authorization for Broward County Water Preserve Areas, South Florida Water Management District (SFWMD), Comprehensive Everglades Restoration Plan, (CERP), Broward County, FL, Wait Period Ends: 06/04/2007, Contact: Michael Dupes 904-232-1689

EIS No. 20070174, Draft EIS, BPA, WA, Chief Joseph Hatchery Program, Construction, Operation and Maintenance of a Chinook Salmon Hatchery Production Program, Confederated Tribes of the Colville Reservation (Colville Tribes), Okanogan River and Columbia River, Okanogan County, WA, Comment Period Ends: 06/18/2007, Contact: Mickey Carter 503-230-5885

EIS No. 20070175, Final Supplement, USN, 00, Surveillance Towed Array Sensor System Low Frequency Active (SURTASS LFA) Sonar Systems, Updated and Additional Information, Implementation, Wait Period Ends: 06/04/2007, Contact: John F. Mayer 703-465-8404.

Dated: May 1, 2007.
Robert W. Hargrove,
Director, NEPA Compliance Division, Office of Federal Activities.

[FR Doc. E7-8529 Filed 5-3-07; 8:45 am]

BILLING CODE 6560-50-P